FEDERAL COMMUNICATIONS COMMISSION

Notice of Public Information Collection(s) Being Reviewed by the Federal Communications Commission, Comments Requested

January 12, 2009.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before March 17, 2009. If you anticipate that you will be submitting comments, but find it difficult to do so within the period of time allowed by this notice, you should advise the contact listed below as soon as possible.

ADDRESSES: Submit your comments by e-mail to PRA@fcc.gov. Include in the email the OMB control number of the collection or, if there is no OMB control number, the Title shown in the SUPPLEMENTARY INFORMATION section below. If you are unable to submit your comments by e-mail contact the person listed below to make alternate arrangements.

FOR FURTHER INFORMATION CONTACT: For additional information about the information collection(s) or to obtain a copy of the collection send an email to PRA@fcc.gov and include the collection's OMB control number as shown in the Supplementary Information section below (or the title of the collection if there is no OMB control number), or call Judith B. Herman at 202-418-0214.

SUPPLEMENTARY INFORMATION: OMB Control Number: 3060-0986.

Title: Competitive Carrier Line Count Report, WC Docket No. 05-337, CC Docket No. 96-45.

Form Number(s): FCC Form 525.

Type of Review: Revision of a currently approved collection.

Respondents: Business or other for profit and not-for-profit institutions.

Number of Respondents and Responses: 2,159 respondents; 5,476 responses.

Estimated Time per Response: .5-80 hours.

Frequency of Response: On occasion, quarterly, and annual reporting requirements.

Obligation to Respond: Required to obtain or retain benefits.

Total Annual Burden: 47,393 hours.

Annual Cost Burden: $1,895,700.00.

Privacy Act Impact Assessment: No impact.

Nature and Extent of Confidentiality: The Commission is not requesting that the respondents submit confidential information to the FCC. Respondents may, however, request confidential treatment for information they believe to be confidential under 47 CFR Section 0.459 of the Commission's rules.

Needs and Uses: This collection will be submitted to OMB after the 60-day comment period as a revision to an existing collection. In April 2008, the Commission adopted an order that capped total annual competitive eligible telecommunications carrier (ETC) universal service high-cost support for each state at the level of support that competitive ETCs in that state were eligible to receive during March 2008 on an annualized basis. The Commission also adopted two limited exceptions from the application of the interim cap. First, a competitive ETC will not be subject to the interim cap to the extent it files cost data demonstrating that its costs meet the support threshold in the same manner as the incumbent local exchange carrier. Second, the Commission also created a limited exception for competitive ETCs serving tribal lands or Alaska Native regions. High-Cost Universal Service Support; Federal-State Joint Board on Universal Service, WC Docket No. 05-337, CC Docket No. 96-45, FCC 08-122. The Commission will not amend FCC Form 525 in order to incorporate the information requests related to the two limited exceptions to the interim cap on high-cost support. The Commission has reviewed the information collection and has revised the estimates that are detailed in the supporting statement.

Additionally, the Commission is revising the collection to incorporate the reporting requirements of OMB 3060-0793 for the self-certification as a rural carrier requirement into this collection under OMB Control Number 3060-0986. The self-certification for rural carriers is rarely filed with the Commission, therefore, its incorporation into OMB 3060-0986 will ease the Commission's administrative burden for complying with information collection requirements. Upon OMB approval of this revision, the Commission will voluntarily discontinue OMB Control Number 3060-0793 and retain this one for OMB's inventory.

Federal Communications Commission.
Marlene H. Dortch,
Secretary.

[FR Doc. E9-911 Filed 1-15-09; 8:45 am]

BILLING CODE 6712-01-P